DEPARTMENT OF TRANSPORTATION

Federal Aviation Administration

14 CFR Part 39

[Docket No. FAA-2021-0144; Project Identifier MCAI-2021-00255-R; Amendment 39-21473; AD 2021-06-06]

RIN 2120-AA64

Airworthiness Directives; Bell Textron Canada Limited Helicopters

AGENCY: Federal Aviation Administration (FAA), DOT.

ACTION: Final rule; request for comments.

SUMMARY: The FAA is superseding Emergency Airworthiness Directive (AD) 2021-05-52 which applied to certain Bell Textron Canada Limited (Bell) Model 505 helicopters. Emergency AD 2021-05-52 required a one-time visual inspection of the pilot collective stick and grip assembly (pilot collective stick), a fluorescent penetrant inspection (FPI) if no crack was found during the visual inspection, and depending on the inspection results, removing the pilot collective stick from service and reporting certain information to Bell. Emergency AD 2021-05-52 also prohibited installing any pilot collective stick on any helicopter unless the inspections had been accomplished. This AD removes the visual inspection of the pilot collective stick, requires repetitive FPIs of the pilot collective stick, and requires revising the existing Rotorcraft Flight Manual (RFM) for your helicopter. This AD retains the reporting requirement and expands the prohibition. This AD was prompted by the determination that visual inspections do not adequately detect a crack and additional findings that a crack may occur sooner than previously expected. The FAA is issuing this AD to address the unsafe condition on these products.

DATES: This AD becomes effective March 31, 2021.

The Director of the Federal Register approved the incorporation by reference of certain documents listed in this AD as of March 31, 2021.

The FAA must receive comments on this AD by April 30, 2021.

ADDRESSES: You may send comments, using the procedures found in 14 CFR 11.43 and 11.45, by any of the following methods:

• Federal eRulemaking Portal: Go to https://www.regulations.gov. Follow the instructions for submitting comments.

• Fax: (202) 493-2251.

• Mail: U.S. Department of Transportation, Docket Operations, M-30, West Building Ground Floor, Room W12-140, 1200 New Jersey Avenue SE, Washington, DC 20590.

• Hand Delivery: Deliver to Mail address above between 9 a.m. and 5 p.m., Monday through Friday, except Federal holidays.

For service information identified in this final rule, contact Bell Textron Canada Limited, 12,800 Rue de l'Avenir, Mirabel, Quebec J7J1R4; telephone (450) 437-2862 or (800) 363-8023; fax (450) 433-0272; or at https://www.bellcustomer.com. You may view this service information at the FAA, Office of the Regional Counsel, Southwest Region, 10101 Hillwood Pkwy., Room 6N-321, Fort Worth, TX 76177. For information on the availability of this material at the FAA, call (817) 222-5110. It is also available at https://www.regulations.gov by searching for and locating Docket No. FAA-2021-0144.

Examining the AD Docket

You may examine the AD docket at https://www.regulations.gov by searching for and locating Docket No. FAA-2021-0144; or in person at Docket Operations between 9 a.m. and 5 p.m., Monday through Friday, except Federal holidays. The AD docket contains this final rule, the Transport Canada AD, any comments received, and other information. The street address for Docket Operations is listed above.

FOR FURTHER INFORMATION CONTACT: Hal Jensen, Aerospace Engineer, Operational Safety Branch, Compliance & Airworthiness Division, FAA National Headquarters, 950 L'Enfant Plaza N SW, Washington, DC 20024; telephone (202) 267-9167; email hal.jensen@faa.gov.

SUPPLEMENTARY INFORMATION:

Background

On February 22, 2021, the FAA issued Emergency AD 2021-05-52 (Emergency AD 2021-05-52), which was made immediately effective to all known U.S. owners and operators of Bell Model 505 helicopters, serial numbers 65011 and subsequent. Emergency AD 2021-05-52 required, before further flight, removing the pilot collective stick from the jackshaft assembly, cleaning it, and then visually inspecting the complete circumference of certain areas for a crack. If the visual inspection did not reveal a crack, Emergency AD 2021-05-52 required performing an FPI for a crack. Removing from service any cracked pilot collective stick was required before further flight, and if a crack was discovered, reporting certain information to Bell was required within 10 days.

Emergency AD 2021-05-52 was prompted by Canadian Emergency AD CF-2021-05, dated February 21, 2021 (Canadian AD CF-2021-05), issued by Transport Canada, which is the aviation authority for Canada, to correct an unsafe condition for Bell Model 505 helicopters, serial numbers 65011 and subsequent. Transport Canada advised of a report that a pilot collective stick cracked above the cabin floor at the junction with the collective jackshaft. This finding occurred prior to engine start during the pilot pre-flight check of flight controls for travel. The exact cause of the crack was still under investigation, and Transport Canada advised that the unsafe condition, if not addressed, could result in failure of the pilot collective stick and subsequent loss of control of the helicopter.

Accordingly, Canadian AD CF-2021-05 required a one-time visual inspection and as applicable, an FPI of the pilot collective stick to detect cracking. If the pilot collective stick was found to be unserviceable, Canadian AD CF-2021-05 required replacing the collective stick with a serviceable part prior to further flight. Transport Canada advised that a serviceable collective stick is a new collective stick or a collective stick with no crack found during the visual inspection or FPI required by its AD. Transport Canada considered Canadian AD CF-2021-05 an interim action and stated that further AD action may follow.

Actions Since Emergency AD 2021-05-52 was Issued

Since the FAA issued Emergency AD 2021-05-52, Bell has twice revised its service information. The service information was first revised to remove the procedures for a visual inspection and instead specify recurring FPIs, and Transport Canada superseded Canadian AD CF-2021-05 accordingly with Emergency AD CF-2021-05R1, dated February 26, 2021 (Canadian AD CF-2021-05R1). Canadian AD CF-2021-05R1 advised that examination of a pilot collective stick and another cracked pilot collective stick by Bell revealed fatigue cracking. Based on these findings, Bell determined that a visual inspection is not adequate for detecting smaller cracks. Accordingly, Canadian AD CF-2021-05R1 required an initial FPI for cracks before further flight and then at intervals not to exceed 25 hours time-in-service (TIS). Canadian AD CF-2021-05R1 also contained a ferry flight provision that specifies that ferry flights are permitted to a maintenance base to carry out the FPI, provided that the helicopter is flown from the copilot seat only. Transport Canada considered Canadian AD CF-2021-05R1 an interim action and stated that further AD action may follow.

Bell then again revised its service information to specify inserting a temporary revision (TR) into the RFM that prohibits single pilot operations from the right crew seat. Transport Canada again superseded its AD accordingly with Emergency AD CF-2021-05R2, dated March 4, 2021 (Canadian AD CF-2021-05R2). Canadian AD CF-2021-05R2 specifies that subsequent to the issuance of Canadian AD CF-2021-05R1, additional FPI findings showed that cracking of the pilot collective stick could occur at very low flight hours. As a result, Bell published revised service information to introduce TRs to the RFMs to prohibit single pilot operations from the right crew seat. Transport Canada considers Canadian AD CF-2021-05R2 an interim action as well and states that further AD action may follow to mandate further corrective actions to modify the pilot collective stick to prevent cracking and subsequent failure.

FAA's Determination

These helicopters have been approved by the aviation authority of Canada and are approved for operation in the United States. Pursuant to the FAA's bilateral agreement with Canada, Transport Canada, its technical representative, has notified the FAA of the unsafe condition described in its AD. The FAA is issuing this AD after evaluating all known relevant information and determining that the unsafe condition described previously is likely to exist or develop on other helicopters of the same type design.

Related Service Information Under 1 CFR Part 51

The FAA reviewed Bell Alert Service Bulletin 505-21-20, Revision B, dated March 3, 2021 (ASB 505-21-20 Rev B). ASB 505-21-20 Rev B provides instructions for an initial and recurring FPIs for cracks in the pilot collective stick and grip assembly part number M207-20M478-041/-043/-047 on Bell Model 505 helicopters, serial numbers 65011 and subsequent. ASB 505-21-20 Rev B also specifies inserting TRs into the RFMs that prohibit single pilot operations from the right crew seat until further notice. Finally, ASB 505-21-20 Rev B specifies that if the right crew seat pilot collective stick assembly was previously confirmed serviceable following an FPI in accordance with Bell Alert Service Bulletin 505-21-20, Revision A, dated February 26, 2021 (ASB 505-21-20 Rev A), which is not incorporated by reference in this AD, then the 25 flight hour recurring FPI of the right crew seat pilot collective stick assembly is no longer required provided that the helicopter is only operated single pilot in command (PIC) from the left crew seat. If conducting dual pilot operations, ASB 505-21-20 Rev B specifies a 25 flight hour recurring FPI of the right crew seat pilot collective stick assembly.

The FAA also reviewed Bell 505 RFM TR for Pilot Collective (ASB 505-21-20), BHT-505-FM-1, Temporary Revision (TR-6) (BHT-505-FM-1, TR-6) and Bell 505 RFM TR for Pilot Collective (ASB 505-21-20), BHT-505-FM-2, Temporary Revision (TR-1), each dated March 3, 2021. These TRs specify changes to Section 1 of the RFM Limitations Section that the minimum flight crew consists of one pilot that shall operate from the left crew seat and that dual operation is approved provide that the PIC occupies the left crew seat. BHT-505-FM-1, TR-6 also prohibits use of SPLIT-COM mode.

This service information is reasonably available because the interested parties have access to it through their normal course of business or by the means identified in the ADDRESSES section.

Other Related Service Information

The FAA reviewed Bell ASB 505-21-20, dated February 20, 2021 (ASB 505-21-20) and ASB 505-21-20 Rev A. ASB 505-21-20 specifies a one-time inspection for cracks of the pilot collective stick and grip assembly. ASB 505-21-20 Rev A removes the visual inspection and adds a repetitive FPI.

AD Requirements

This AD requires, before further flight, revising Section 1, the Limitations section of the existing RFM for your helicopter to prohibit single pilot operations from the right crew seat, require the pilot in command to occupy the left crew seat for dual pilot operations, and depending on configuration, prohibiting the use of SPLIT-COM mode. This AD also requires, before further flight and thereafter at intervals not to exceed 25 hours TIS, removing the pilot collective stick from the jackshaft assembly, cleaning it as specified in ASB 505-21-20 Rev B, and performing an FPI for a crack as specified in ASB 505-21-20 Rev B. Removing from service any cracked pilot collective stick is required before further flight. In addition, this AD requires, within 10 days after the discovery of any crack, reporting certain information to Bell. This AD also prohibits installing any pilot collective stick and grip assembly on any helicopter unless it has successfully passed the FPI inspection requirements of this AD. Lastly, this AD prohibits relief under any Master Minimum Equipment List or Minimum Equipment List for the Audio Panel when the aircraft is operated with a single pilot.

Differences Between This AD and the Transport Canada

This AD prohibits relief under any Master Minimum Equipment List or Minimum Equipment List for the Audio Panel when the aircraft is operated with a single pilot, whereas Canadian AD CF-2021-05R2 does not. Canadian AD CF-2021-05R2 requires the repetitive FPI if the aircraft is not flown solely from the left crew seat whereas this AD requires FPI regardless.

Interim Action

The FAA considers this AD to be an interim action and acknowledges that the requirement to revise the existing RFM for your helicopter to require the pilot in command to occupy the left crew seat, and, depending on configuration, prohibit the use of SPLIT-COM mode may impact seat-dependent training for some helicopters operating under Part 135. However, the unsafe condition requires the FAA to mandate these requirements for continued operational safety. The inspection reports that are required by this AD will enable the FAA to obtain better insight into the cause of the cracking, and eventually develop final action to address the unsafe condition. Once final action has been identified, the FAA might consider further rulemaking.

Justification for Immediate Adoption and Determination of the Effective Date

Section 553(b)(3)(B) of the Administrative Procedure Act (APA) (5 U.S.C. 551 et seq.) authorizes agencies to dispense with notice and comment procedures for rules when the agency, for “good cause,” finds that those procedures are “impracticable, unnecessary, or contrary to the public interest.” Under this section, an agency, upon finding good cause, may issue a final rule without providing notice and seeking comment prior to issuance. Further, section 553(d) of the APA authorizes agencies to make rules effective in less than thirty days, upon a finding of good cause.

An unsafe condition exists that requires the immediate adoption of this AD without providing an opportunity for public comments prior to adoption. The FAA has found that the risk to the flying public justifies foregoing notice and comment prior to adoption of this rule because certain requirements must be accomplished before further flight. Accordingly, notice and opportunity for prior public comment are impracticable and contrary to the public interest pursuant to 5 U.S.C. 553(b)(3)(B).

In addition, the FAA finds that good cause exists pursuant to 5 U.S.C. 553(d) for making this amendment effective in less than 30 days, for the same reasons the FAA found good cause to forego notice and comment.

Comments Invited

The FAA invites you to send any written data, views, or arguments about this final rule. Send your comments to an address listed under ADDRESSES. Include “Docket No. FAA-2021-0144; Project Identifier MCAI-2021-00255-R” at the beginning of your comments. The most helpful comments reference a specific portion of the final rule, explain the reason for any recommended change, and include supporting data. The FAA will consider all comments received by the closing date and may amend this final rule because of those comments.

Except for Confidential Business Information (CBI) as described in the following paragraph, and other information as described in 14 CFR 11.35, the FAA will post all comments received, without change, to https://www.regulations.gov, including any personal information you provide. The agency will also post a report summarizing each substantive verbal contact received about this final rule.

Confidential Business Information

CBI is commercial or financial information that is both customarily and actually treated as private by its owner. Under the Freedom of Information Act (FOIA) (5 U.S.C. 552), CBI is exempt from public disclosure. If your comments responsive to this AD contain commercial or financial information that is customarily treated as private, that you actually treat as private, and that is relevant or responsive to this AD, it is important that you clearly designate the submitted comments as CBI. Please mark each page of your submission containing CBI as “PROPIN.” The FAA will treat such marked submissions as confidential under the FOIA, and they will not be placed in the public docket of this AD. Submissions containing CBI should be sent to Hal Jensen, Aerospace Engineer, Operational Safety Branch, Compliance & Airworthiness Division, FAA National Headquarters, 950 L'Enfant Plaza N SW, Washington, DC 20024; telephone (202) 267-9167; email hal.jensen@faa.gov. Any commentary that the FAA receives which is not specifically designated as CBI will be placed in the public docket for this rulemaking.

Regulatory Flexibility Act

The requirements of the Regulatory Flexibility Act (RFA) do not apply when an agency finds good cause pursuant to 5 U.S.C. 553 to adopt a rule without prior notice and comment. Because the FAA has determined that it has good cause to adopt this rule without prior notice and comment, RFA analysis is not required.

Costs of Compliance

The FAA estimates that this AD affects 88 helicopters of U.S. Registry. Labor rates are estimated at $85 per work-hour. Based on these numbers, the FAA estimates the following costs to comply with this AD.

Removing, cleaning, performing the FPI of the pilot collective stick, and installing a serviceable pilot collective stick takes about 3 work-hours for an estimated cost of $255 per helicopter and $22,440 for the U.S. fleet per inspection cycle. A replacement pilot collective stick costs about $1,979 per helicopter. If required, reporting information takes about 1 work-hour for an estimated cost of $85 per instance.

Revising the existing RFM for your helicopter takes about 0.5 work-hour for an estimated cost of $43 per helicopter.

The FAA has included all known costs in its cost estimate. According to the manufacturer, however, some of the costs of this AD may be covered under warranty, thereby reducing the cost impact on affected operators.

Paperwork Reduction Act

A federal agency may not conduct or sponsor, and a person is not required to respond to, nor shall a person be subject to penalty for failure to comply with a collection of information subject to the requirements of the Paperwork Reduction Act unless that collection of information displays a currently valid OMB Control Number. The OMB Control Number for this information collection is 2120-0056. Public reporting for this collection of information is estimated to be approximately 1 hour per response, including the time for reviewing instructions, searching existing data sources, gathering and maintaining the data needed, and completing and reviewing the collection of information. All responses to this collection of information are mandatory. Send comments regarding this burden estimate or any other aspect of this collection of information, including suggestions for reducing this burden, to: Information Collection Clearance Officer, Federal Aviation Administration, 10101 Hillwood Parkway, Fort Worth, TX 76177-1524.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national Government and the States, or on the distribution of power and responsibilities among the various levels of government.

For the reasons discussed, I certify that this AD:

(1) Is not a “significant regulatory action” under Executive Order 12866, and

(2) Will not affect intrastate aviation in Alaska.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

2021-06-06 Bell Textron Canada Limited: Amendment 39-21473; Docket No. FAA-2021-0144; Project Identifier MCAI-2021-00255-R.

(a) Effective Date

This airworthiness directive (AD) is effective March 31, 2021.

(b) Affected ADs

This AD replaces Emergency AD 2021-05-52, Project Identifier MCAI-2021-00217-R, dated February 22, 2021.

(c) Applicability

This AD applies to Bell Textron Canada Limited Model 505 helicopters, serial numbers 65011 and subsequent, certificated in any category.

(d) Subject

Joint Aircraft Service Component (JASC) Code: 6710, Main Rotor Control.

(e) Unsafe Condition

This AD was prompted by a report of a cracked pilot collective stick. The FAA is issuing this AD to detect a cracked pilot collective stick which, if not corrected, could result in failure of the pilot collective stick and subsequent loss of control of the helicopter.

(f) Compliance

Comply with this AD within the compliance times specified, unless already done.

(g) Required Actions

(1) Before further flight after the effective date of this AD, revise the Limitations section of the existing Rotorcraft Flight Manual (RFM) for your helicopter by inserting Bell 505 RFM Temporary Revision (TR) for Pilot Collective (ASB 505-21-20), BHT-505-FM-1, Temporary Revision (TR-6) or Bell 505 RFM TR for Pilot Collective (ASB 505-21-20), BHT-505-FM-2, Temporary Revision (TR-1), each dated March 3, 2021, as applicable to your helicopter. Using a different document with information identical to the information for the “Flight Crew” and “Configuration,” as applicable to your helicopter, in the RFM TR specified in this paragraph for your helicopter is acceptable for compliance with the requirements of this paragraph. This action may be performed by the owner/operator (pilot) holding at least a private pilot certificate and must be entered into the aircraft records showing compliance with this AD in accordance with § 43.9(a)(1) through (4) and § 91.417(a)(2)(v). The record must be maintained as required by § 91.417, § 121.380, or § 135.439.

(2) Before further flight after the effective date of this AD, and thereafter at intervals not to exceed 25 hours time-in-service:

(i) Remove the pilot collective stick and grip assembly from the jackshaft assembly and clean the areas specified in Figure 2 of Bell Alert Service Bulletin 505-21-20, Revision B, dated March 3, 2021 (ASB 505-21-20 Rev B) with a clean cloth C-516C or equivalent moistened with dry cleaning solvent C-304 or equivalent.

(ii) Perform a fluorescent penetrant inspection (FPI) for a crack by following the Accomplishment Instructions, paragraph 5. (but not paragraphs 5.a. and b.) of ASB 505-21-20 Rev B. Perform this FPI in the areas specified in Figure 2 of ASB 505-21-20 Rev B. If there is a crack, before further flight, remove the pilot collective stick and grip assembly from service.

(3) Within 10 days after the discovery of any crack, report the information specified in paragraph 5.a. of ASB 505-21-20 Rev B to Bell Product Support Engineering at productsupport@bellflight.com.

(4) As of the effective date of this AD, do not install any pilot collective stick and grip assembly on any helicopter unless the actions required by paragraphs (g)(2)(i) and (ii) have been accomplished.

(5) As of the effective date of this AD, relief under any Master Minimum Equipment List or Minimum Equipment List for the Audio Panel is prohibited when the aircraft is operated with a single pilot.

(h) Credit for Previous Actions

If you performed an FPI of the pilot collective stick and grip assembly before the effective date of this AD using Bell Alert Service Bulletin 505-21-20, dated February 20, 2021, or Bell Alert Service Bulletin 505-21-20, Revision A, dated February 26, 2021, you met the before further flight FPI requirement of paragraph (g)(2) of this AD.

(i) Special Flight Permits

A special flight permit to a maintenance facility may be granted provided that:

(1) There are no passengers on-board,

(2) The helicopter is flown from the copilot seat only, and

(3) The GMA (intercom) is operative.

(j) Alternative Methods of Compliance (AMOCs)

(1) The Manager, International Validation Branch, FAA, has the authority to approve AMOCs for this AD, if requested using the procedures found in 14 CFR 39.19. In accordance with 14 CFR 39.19, send your request to your principal inspector or local Flight Standards District Office, as appropriate. If sending information directly to the manager of the International Validation office, send it to the attention of the person identified in paragraph (k)(1) of this AD. Information may be emailed to: 9-AVS-AIR-730-AMOC@faa.gov.

(2) Before using any approved AMOC, notify your appropriate principal inspector, or lacking a principal inspector, the manager of the local flight standards district office/certificate holding district office.

(k) Related Information

(1) Hal Jensen, Aerospace Engineer, Operational Safety Branch, Compliance & Airworthiness Division, FAA National Headquarters, 950 L'Enfant Plaza N SW, Washington, DC 20024; telephone (202) 267-9167; email hal.jensen@faa.gov.

(2) The subject of this AD is addressed in Transport Canada Emergency AD CF-2021-05R2, dated March 4, 2021. You may view the Transport Canada AD on the internet at https://www.regulations.gov in Docket No. FAA-2021-0144.

(l) Material Incorporated by Reference

(1) The Director of the Federal Register approved the incorporation by reference of the service information listed in this paragraph under 5 U.S.C. 552(a) and 1 CFR part 51.

(2) You must use this service information as applicable to do the actions required by this AD, unless the AD specifies otherwise.

(i) Bell Alert Service Bulletin 505-21-20, Revision B, dated March 3, 2021.

(ii) Bell 505 Rotorcraft Flight Manual Temporary Revision for Pilot Collective (ASB 505-21-20), BHT-505-FM-1, Temporary Revision (TR-6), dated March 3, 2021.

(iii) Bell 505 Rotorcraft Flight Manual Temporary Revision for Pilot Collective (ASB 505-21-20), BHT-505-FM-2, Temporary Revision (TR-1), dated March 3, 2021.

(3) For service information identified in this AD, contact Bell Textron Canada Limited, 12,800 Rue de l'Avenir, Mirabel, Quebec J7J1R4; telephone (450) 437-2862 or (800) 363-8023; fax (450) 433-0272; or at https://www.bellcustomer.com.

(4) You may view this service information at the FAA, Office of the Regional Counsel, Southwest Region, 10101 Hillwood Pkwy., Room 6N-321, Fort Worth, TX 76177. For information on the availability of this material at the FAA, call (817) 222-5110.

(5) You may view this service information that is incorporated by reference at the National Archives and Records Administration (NARA). For information on the availability of this material at NARA, email: fedreg.legal@nara.gov, or go to: https://www.archives.gov/federal-register/cfr/ibr-locations.html.

Issued on March 10, 2021.
Lance T. Gant,
Director, Compliance & Airworthiness Division, Aircraft Certification Service.

[FR Doc. 2021-05513 Filed 3-12-21; 4:15 pm]

BILLING CODE 4910-13-P